INTERNATIONAL TRADE COMMISSION

[Investigation No. 337-TA-1220]

Certain Filament Light-Emitting Diodes and Products Containing Same (II); Commission Decision Not To Review an Initial Determination Granting a Motion To Intervene

AGENCY: U.S. International Trade Commission.

ACTION: Notice.

SUMMARY: Notice is hereby given that the U.S. International Trade Commission has determined not to review an initial determination (“ID”) (Order No. 15) of the presiding administrative law judge (“ALJ”) granting a motion to intervene filed by non-party Global Value Lighting LLC (“GVL”).

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 5, 2020, the Commission instituted this investigation under section 337 of the Tariff Act of 1930, as amended, 19 U.S.C. 1337 (“section 337”), based on a complaint filed by The Regents of the University of California (“Complainant”). See 85 FR 62761-62 (Oct. 5, 2020). The complaint, as supplemented, alleges a violation of section 337 based upon the importation into the United States, the sale for importation, and the sale within the United States after importation of certain filament light-emitting diodes and products containing the same by reason of infringement of certain claims of U.S. Patent Nos. 9,240,529; 9,859,464; 10,593,854; 10,644,213; and 10,658,557. See id. The notice of investigation names the following respondents: Home Depot Product Authority, LLC; Home Depot U.S.A., Inc.; and The Home Depot, Inc. of Atlanta, Georgia (collectively, “Home Depot”); General Electric Company of Boston, Massachusetts; Consumer Lighting (U.S.) LLC, d/b/a GE Lighting of Cleveland, Ohio; Savant Systems, Inc. of Hyannis, Massachusetts; Feit Electric Company, Inc. of Pico Rivera, California; Satco Products, Inc. of Brentwood, New York; IKEA Supply AG of Pratteln, Switzerland; IKEA U.S. Retail LLC of Conshohocken, Pennsylvania; and IKEA of Sweden AB of Almhult, Sweden. See id. The Office of Unfair Import Investigations (“OUII”) is also a party to the investigation. See id.

On November 5, 2020, the ALJ issued an ID (Order No. 14) granting non-party Signify North America Corp.'s motion to intervene in this investigation. See Order No. 14 (Nov. 5, 2020), unreviewed by Comm'n Notice (Nov. 30, 2020).

On November 4, 2020, GVL filed a motion to intervene in this investigation pursuant to Commission Rule 210.19 (19 CFR 210.19). GVL argued that its motion is timely and that “[i]ntervention is appropriate where, as here, the Complaint seeks to directly exclude the intervenor's products.” See Mot. at 4-6. No party opposed the motion to intervene except that Complainant argued that GVL should coordinate all aspects of the investigation with the Home Depot respondents. See Complainant's Resp. at 2 (Nov. 9, 2020). On November 16, 2020, OUII filed a response in support of the motion to intervene. No other responses were received.

On November 16, 2020, the ALJ issued the subject ID (Order No. 15) granting GVL's motion to intervene. The ID notes that “[n]o party disputes that GVL should be allowed to intervene.” See ID at 1. The ID finds that “GVL may fully participate as a party in the investigation, including with respect to all claims and defenses at issue in the investigation.” See id. The ID also finds that “GVL shall coordinate to the extent possible with [Home Depot] and other respondents.” See id. at 1-2.

No petition for review of the subject ID was filed. The Commission has determined not to review the subject ID. GVL is granted intervenor status.

The Commission's vote for this determination took place on December 8, 2020.

The authority for the Commission's determination is contained in section 337 of the Tariff Act of 1930, as amended (19 U.S.C. 1337), and in part 210 of the Commission's Rules of Practice and Procedure (19 CFR part 210).

By order of the Commission.
Issued: December 8, 2020.
Lisa Barton,
Secretary to the Commission.

[FR Doc. 2020-27381 Filed 12-11-20; 8:45 am]

BILLING CODE 7020-02-P